FEDERAL COMMUNICATIONS COMMISSION

[CG Docket No. 02-278; DA 20-1120; FRS 17108]

Consumer and Governmental Affairs Bureau Seeks To Determine Parties' Continuing Interest in Specific Petitions for Preemption of State Consumer Protection Requirements

AGENCY: Federal Communications Commission.

ACTION: Notice.

SUMMARY: In this document, the Federal Communications Commission (FCC or Commission) seeks to assess the Petitioners' continuing interests in certain Petitions that were filed between 2003 and 2005. The FCC plans to dismiss the Petitions with prejudice unless a Petitioner files a letter in the relevant docket specifying that it objects to the dismissal of its Petition and the reasons for such objections.

DATES: Petitioners may file a letter on or before November 20, 2020. Unless Petitioners take action as described, the specified Petitions will be dismissed on November 20, 2020.

ADDRESSES: You may file a letter in CG Docket No. 02-278, by any of the following methods:

• Federal Communications Commission: https://www.fcc.gov/ecfs.filings. Follow the instructions for submitting comments.

• Paper Filers: Parties who choose to file by paper must file an original and one copy of each filing.

• Commercial overnight mail (other than U.S. Postal Service Express Mail and Priority Mail) must be sent to 9050 Junction Drive, Annapolis Junction, MD 20701.

• U.S. Postal Service first class, Express, and Priority mail must be addressed to 445 12th Street SW, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcc-closes-headquarters-open-window-and-changes-hand-delivery-policy.

• In addition, you should send a copy of your letter to Kristi Thornton of the Consumer and Governmental Affairs Bureau at Kristi.Thornton@fcc.gov.

People with Disabilities: Contact the FCC to request reasonable accommodations (accessible format documents, sign language interpreters, CART, etc.) by email: FCC504@fcc.gov or phone: 202-418-0530 or TTY: 202-418-0432.

FOR FURTHER INFORMATION CONTACT: Kristi Thornton of the Consumer Policy Division, Consumer and Governmental Affairs Bureau, at (202) 418-2467 or at Kristi.Thornton@fcc.gov.

SUPPLEMENTARY INFORMATION: This is a summary of the Public Notice, DA 20-1120, CG Docket No. 02-278, released on September 23, 2020. The full text of this document is available online at https://docs.fcc.gov/public/attachments/DA-20-1120A1.pdf. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530 (voice).

This matter shall be treated as a “permit-but-disclose” proceeding in accordance with the Commission's ex parte rules. 47 CFR 1.1200 et seq. Persons making oral ex parte presentations are reminded that memoranda summarizing the presentations must contain summaries of the substance of the presentations and not merely a listing of the subjects discussed. See 47 CFR 1.1206(b). Other rules pertaining to oral and written ex parte presentations in permit-but-disclose proceedings are set forth in § 1.1206(b) of the Commission's rules, 47 CFR 1.1206(b).

Synopsis

1. The Consumer and Governmental Affairs Bureau (Bureau) has pending 10 petitions (Petitions) generally asking the Commission to preempt state protections against unwanted robocalls and faxes. The Petitions were filed between 2003 and 2005, with no advocacy for several years. In addition, the relief the Petitions request appears to be moot or otherwise no longer relevant in light of both federal and state regulatory changes that have occurred since the Petitions were filed.

2. As part of the Commission's effort to efficiently manage its dockets and resources, and to reduce backlog, the Bureau seeks to assess the Petitioners' continuing interests in these Petitions. The Bureau will dismiss the Petitions below with prejudice unless a Petitioner files a letter in the relevant docket on or before November 20, 2020, specifying that it objects to the dismissal of its Petition and the reasons for such objections. Upon release of document DA 20-1120, the Bureau will send copies to the Petitioners at the last available mailing address associated with the Petition.

3. These Petitions and related information are provided below:

4. Petitioner Mark Boling, Petition for Declaratory Ruling, CG Docket No. 02-278; Petition filed 8/11/2003.

5. Petitioner Direct Marketing Association, Petition for Reconsideration of Rules and Regulations Implementing the Telephone Consumer Protection Act of 1991, CG Docket No. 02-278, Report and Order, 18 FCC Rcd 14014 (2003); Petition filed 8/25/2003.

6. Petitioner American Teleservices Association, Inc., Petition for Declaratory Ruling with Respect to Certain Provisions of the New Jersey Consumer Fraud Act and the New Jersey Administrative Code, CG Docket No. 02-278; Petition filed 8/24/2004.

7. Petitioner FreeEats.com Inc. (d/b/a ccAdvertising), Petition for Expedited Declaratory Ruling, CG Docket No. 02-278; Petition filed 9/13/2004.

8. Petitioner Consumer Bankers Association (Indiana), Petition for Expedited Declaratory Ruling with Respect to Certain Provisions of the Indiana Revised Statutes and Indiana Administrative Code, CG Docket No. 02-278; Petition filed 11/19/2004.

9. Petitioner Consumer Bankers Association (Wisconsin), Petition for Declaratory Ruling with Respect to Certain Provisions of the Wisconsin Statutes and Wisconsin Administrative Code, CG Docket No. 02-278; Petition filed 11/19/2004.

10. Petitioner National City Mortgage Co., Petition for Expedited Declaratory Ruling with Respect to Certain Provisions of the Florida Statutes, CG Docket No. 02-278; Petition filed 11/22/2004.

11. Petitioner TSA Stores, Inc., Petition for Declaratory Ruling with Respect to Certain Provisions of the Florida laws and regulations, CG Docket No. 02-278; Petition filed 2/1/2005.

12. Petitioner 33 Allied Petitioners, Petition for Declaratory Ruling that the FCC has Exclusive Regulatory Jurisdiction Over Interstate Telemarketing, CG Docket No. 02-278; Petition filed 4/29/2005.

13. Petitioner The Fax Ban Coalition, Petition for Declaratory Ruling of the Fax Ban Coalition, CG Docket No. 02-278; Petition filed 11/7/2005.

Federal Communications Commission.
Gregory Haledjian,
Legal Advisor, Consumer and Governmental Affairs Bureau.

[FR Doc. 2020-22010 Filed 10-5-20; 8:45 am]

BILLING CODE 6712-01-P